DEPARTMENT OF HEALTH AND HUMAN SERVICES

National Institutes of Health

Notice Correction

The notice published in the May 8, 2009, Federal Register (74 FR 21698) announcing the opportunity to register to attend the July 28-29, 2009, NIH-sponsored workshop entitled “Soy Protein and Isoflavones Research: Challenges in Designing and Evaluating Intervention Studies” contains an errant e-mail address for registration purposes. More specifically, the e-mail address provided in line 8 of the Registration section of the notice should read: twallich@csionweb.com. If you do not have access to e-mail, please call Ms. Wallich at 301-670-0270 (not a toll-free number).

Dated: May 11, 2009.
Paul M. Coates,
Director, Office of Dietary Supplements, National Institutes of Health.

[FR Doc. E9-11488 Filed 5-15-09; 8:45 am]

BILLING CODE 4140-01-P